DEPARTMENT OF THE TREASURY

Submission for OMB Review; Comment Request

AGENCY: Department of the Treasury.

ACTION: Notice.

The Department of the Treasury will submit the following information collection requests to the Office of Management and Budget (OMB) for review and clearance in accordance with the Paperwork Reduction Act of 1995, Public Law 104-13, on or after the date of publication of this notice.

DATES: Comments should be received on or before February 1, 2016 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission may be obtained by emailing PRA@treasury.gov, or viewing the entire information collection request at www.reginfo.gov.

SUPPLEMENTARY INFORMATION:

Alcohol and Tobacco Tax and Trade Bureau (TTB)

OMB Number: 1513-0004.

Type of Review: Revision of a currently approved collection.

Title: Authorization to Furnish Financial Information and Certificate of Compliance.

Form: TTB F 5030.6.

Abstract: The TTB regulations require applicants for alcohol and tobacco permits to provide certain information regarding the money used to finance the business. The Right to Financial Privacy Act of 1978 (the Act; 12 U.S.C. 3401 et seq.) limits government access to records held by financial institutions, provides for certain procedures to gain access to such information, and requires that government agencies certify to a financial institution that the agency has complied with all provisions of the Act. To comply with the requirements of the Act, TTB F 5030.6 acts as both a customer authorization to their financial institution providing TTB with the authority to receive the customer's financial information and as the required certification by TTB to the financial institution that it has complied with the Act's provisions.

Affected Public: Private Sector: Businesses or other for-profits.

Estimated Annual Burden Hours: 240.

OMB Number: 1513-0089.

Type of Review: Revision of a currently approved collection.

Title: Records Supporting Drawback Claims on Eligible Articles Brought into the United States from Puerto Rico or the Virgin Islands (TTB REC 5530/3).

Abstract: TTB uses the records required to be kept under this information collection to verify claims for drawback of the Federal excise tax paid on eligible articles (generally nonbeverage products) brought into the United States from Puerto Rico and the U.S. Virgin Islands.

Affected Public: Private Sector: Businesses or other for-profits.

Estimated Annual Burden Hours: 160.

Dated: December 28, 2015.
Dawn D. Wolfgang,
Treasury PRA Clearance Officer.

[FR Doc. 2015-32912 Filed 12-30-15; 8:45 am]

BILLING CODE 4810-31-P